DEPARTMENT OF DEFENSE

Office of the Secretary

[DoD-2007-OS-0136]

Defense Transportation Regulation, Part IV

AGENCY: Department of Defense; United States Transportation Command (USTRANSCOM).

ACTION: Notice.

SUMMARY: The Department of Defense announces completion of the review and disposition of comments received in connection with Federal Register Notice April 1, 2008 (73 FR 17327) Phase II Interim Final Business Rules for the Families First Personal Property Program. Final disposition of comments is located on the USTRANSCOM Web site at http://www.transcom.mil/j5/pt/dtr_part_iv.cfm. This notice announces:

1. All references to Families First are changed to “Defense Personal Property Program (DP3)”.

2. DP3 Phase II business rules are final and contained in the Defense Transportation Regulation (DTR) Part IV (DTR 4500.9-R), where applicable.

FOR FURTHER INFORMATION CONTACT: Mr. Jim Teague, United States Transportation Command, TCJ5/4-PT, 508 Scott Drive, Scott Air Force Base, IL 62225-5357; 618) 229-1985.

SUPPLEMENTARY INFORMATION: All changes resulting from comments received are identified on the disposition excel spreadsheet located on the USTRANSCOM Web site.

Dated: May 5, 2009.
Patricia L. Toppings,
OSD Federal Register Liaison Officer, Department of Defense.

[FR Doc. E9-10707 Filed 5-7-09; 8:45 am]

BILLING CODE 5001-06-P